DEPARTMENT OF LABOR

Office of the Secretary

Submission for OMB Review: Comment Request

October 20, 2004.

The U.S. Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Revision of currently approved collection.

OMB Number: 1215-0131.

Title: OFCCP Complaint Form.

Form Number: CC-4.

Frequency: On occasion.

Type of Response: Reporting.

Affected Public: Individuals or households.

Number of Respondents: 848.

Number of Annual Responses: 848.

Average Response Time: 77 minutes (1.28 hours).

Annual Burden Hours: 1,085.

Total Annualized Capital/Startup Costs: $0.

Total Annual Costs (Operating/maintaining systems or purchasing services): $0.

Description: Any employee or applicant for employment with a Government contractor may file a complaint with DOL alleging discrimination by completing the Complaint Form CC-4, Complaint of Discrimination in Employment under Federal Government Contracts. DOL investigates the complaint but retains the discretion whether to pursue prosecution. If a complaint filed under Executive Order 11246, as amended, involves discrimination against only one person, DOL will normally refer it to the U.S. Equal Employment Opportunity Commission. Complaints that involve groups of people or indicate patterns of discrimination are generally investigated by DOL. The implementing regulations which specify the content of this information collection are found at 41 CFR 60-741.61(c).

Darrin A. King,
Acting Departmental Clearance Officer.

[FR Doc. 04-23916 Filed 10-25-04; 8:45 am]

BILLING CODE 4510-CM-P